POSTAL SERVICE

39 CFR Part 20

Outbound International Mailings of Lithium Batteries

AGENCY: Postal Service™.

ACTION: Final rule.

SUMMARY: The Postal Service is revising the Mailing Standards of the United States Postal Service, International Mail Manual (IMM®) to new standards when mailing primary and secondary lithium cells or lithium batteries internationally, or to and from an APO, FPO, or DPO destinations.

DATES: Effective date: November 15, 2012.

FOR FURTHER INFORMATION CONTACT: Rick Klutts at 813-877-0372.

SUPPLEMENTARY INFORMATION: In the final rule published on May 14, 2012, (77 FR 28259-28261), the Postal Service implemented new international standards effective May 16, 2012, that prohibited the mailing of lithium batteries and cells internationally and when sent to and from any Army Post Office™ (APO), Fleet Post Office (FPO), or Diplomatic Post Office (DPO) location. The Postal Service took this action to bring its international mailing standards into compliance with international standards for the acceptance of dangerous goods in international mail. We also stated in that notice that we anticipated on January 1, 2013, customers would be able to mail specific quantities of lithium batteries internationally (including to and from an APO, FPO, or DPO location) when the batteries are properly installed in the personal electronic devices they are intended to operate. Through recent discussions with the Federal Aviation Administration (FAA), the International Civil Aviation Organization (ICAO) and the Universal Postal Union (UPU), we are pleased to announce that we will be able to implement the following changes effective November 15, 2012. In addition, we will also make parallel changes to other USPS publications that make reference to the international mailing of lithium batteries such as Mailing Standards of the United States Postal Service, Domestic Mail Manual (DMM) and Publication 52, Hazardous, Restricted, and Perishable Mail.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is revised to read as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

1 International Mail Services

* * * * *

130 Mailability

* * * * *

135 Mailable Dangerous Goods

* * * * *

[Insert new 135.6 to read as follows:]

135.6 Batteries

135.61 General

Only lithium cells and batteries under 135.62 and 135.63 that are properly installed in the equipment they are intended to operate may be sent internationally or to APO, FPO, or DPO locations when not restricted or prohibited by the destination country or APO, FPO, or DPO location. For specific country restrictions, see the applicable Individual Country Listing. For specific APO, FPO, or DPO restrictions, see the information for the destination ZIP Code in the article titled “Overseas Military/Diplomatic Mail” published in each issue of the Postal Bulletin.

Lithium batteries packed with equipment and lithium batteries sent separate from equipment are prohibited. Damaged or recalled batteries are prohibited and may not be mailed internationally under any circumstances.

135.62 Primary Lithium (Non-Rechargeable) Cells and Batteries

Small consumer-type primary lithium cells and batteries (lithium metal or lithium alloy) like those used to power cameras and flashlights are mailable in a single shipment with the following restrictions:

a. The batteries must be installed in the equipment being shipped.

b. Each shipment may contain a maximum of only four lithium cells or two lithium batteries.

c. The lithium content must not exceed 1 gram (g) per cell.

d. The total aggregate lithium content must not exceed 2 g per battery.

e. The batteries installed in the equipment must be protected from damage and short circuit.

f. The equipment must be equipped with an effective means of preventing it from being turned on or activated.

g. The equipment must be contained in a strong sealed package and cushioned to prevent movement or damage.

135.63 Secondary Lithium-ion (Rechargeable) Cells and Batteries

Small consumer-type lithium-ion cells and batteries like those used to power cell phones and laptop computers are mailable in a single shipment with the following restrictions:

a. The batteries must be installed in the equipment being shipped.

b. Each shipment may contain a maximum of only four lithium-ion cells or two lithium-ion batteries.

c. The lithium content must not exceed 20 Watt-hour rating (Wh) per cell.

d. The total aggregate lithium content must not exceed 100 Wh per battery.

e. Each battery must bear the Wh marking on the battery to determine if it is within the limits defined in 123.63c and 123.63d.

f. The batteries installed in the equipment must be protected from damage and short circuit.

g. The equipment must be equipped with an effective means of preventing it from being turned on or activated.

h. The equipment must be contained in a strong sealed package and cushioned to prevent movement or damage.

136 Nonmailable Goods

136.1 Dangerous Goods

* * * Some examples of dangerous goods include the following:

* * * * *

[Delete item “i” in its entirety.]

* * * * *

We will publish an amendment to 39 CFR part 20 to reflect these changes.

Stanley F. Mires,
Attorney, Legal Policy & Legislative Advice.

[FR Doc. 2012-27842 Filed 11-13-12; 11:15 am]

BILLING CODE 7710-12-P